ENVIRONMENTAL PROTECTION AGENCY

[FRL-7063-9]

Clean Water Act Class II: Proposed Administrative Penalty Assessment and Opportunity To Comment Regarding the California Department of Transportation

AGENCY: Environmental Protection Agency (EPA).

ACTION: Notice of Proposed Clean Water Act administrative penalty assessment and opportunity to comment.

SUMMARY: EPA is providing notice of a proposed Consent Agreement for alleged violations of the Clean Water Act. EPA is also providing notice of opportunity to comment on the proposed penalty.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated the conditions of a National Pollutant Discharge Elimination System permit may be assessed a penalty in a “Class II” administrative penalty proceeding. Class II proceedings under section 309(g) are conducted in accordance with the “Consolidated Rules of Practice Governing the Administrative Assessment of Civil Penalties, Issuance of Compliance or Corrective Action Orders, and the Revocation, Termination or Suspension of Permits,” 40 CFR part 22 (“Consolidated Rules”), published at 64 FR 40138, 40177 (July 23, 1999).

EPA is providing notice of the following Class II penalty proceeding, filed on September 6, 2001:

In the Matter of the California Department of Transportation, District 11, Docket No. CWA-9-2001-0003; Complainant, Alexis Strauss, Director, Water Division, U.S. EPA, Region 9, 75 Hawthorne St., San Francisco, CA 94105; Respondent, California Department of Transportation, District 11, 2829 Juan St., San Diego, CA 92186. In accordance with the terms of the Consent Agreement, Respondent agrees to pay to the United States a civil penalty of $137,500 (one hundred thirty-seven thousand, five hundred dollars) for various discharges from the “State Route 56 Construction Project,” located in San Diego County near the City of Poway, to Deer Creek and Los Penasquitos Creek, in violation of the terms and conditions of the “National Pollutant Discharge Elimination System Permit for Storm Water Discharges from the State of California, Department of Transportation Properties, Facilities, and Activities,” NPDES No. CAS000003.

The procedures by which the public may comment on a proposed Class II penalty or participate in a Class II penalty proceeding are set forth in the consolidated rules. The deadline for submitting public comment on a proposed Class II order is thirty (30) days after publication of this document.

FOR FURTHER INFORMATION CONTACT: Persons wishing to receive a copy of the consolidated rules, review the complaint or other documents filed in the proceedings, or comment or participate in the proceedings, should contact Danielle Carr, Regional Hearing Clerk, U.S. EPA, Region 9, 75 Hawthorne St., San Francisco, CA 94105, (415) 744-1391. The administrative record for this proceeding is located in the EPA Regional Office identified above, and the file will be open for public inspection during normal business hours. EPA will not issue a final order assessing a penalty in these proceedings prior to forty (40) days after the date of publication of this document.

Dated: September 19, 2001.
Alexis Strauss,
Director, Water Division.

[FR Doc. 01-24216 Filed 9-26-01; 8:45 am]

BILLING CODE 6560-50-P